DEPARTMENT OF THE INTERIOR

National Park Service

[NPS-WASO-NAGPRA-NPS0040016; PPWOCRADN0-PCU00RP14.R50000]

Notice of Inventory Completion: Bruce Museum, Inc., Greenwich, CT

AGENCY: National Park Service, Interior.

ACTION: Notice.

SUMMARY: In accordance with the Native American Graves Protection and Repatriation Act (NAGPRA), the Bruce Museum has completed an inventory of human remains and associated funerary objects and has determined that there is a cultural affiliation between the human remains and associated funerary objects and Indian Tribes or Native Hawaiian organizations in this notice.

DATES: Repatriation of the human remains and associated funerary objects in this notice may occur on or after May 30, 2025.

ADDRESSES: Kirsten J. Reinhardt, Bruce Museum, Inc., 1 Museum Drive, Greenwich, CT 06830, telephone (203) 413-06779, email kreinhardt@brucemuseum.org.

SUPPLEMENTARY INFORMATION: This notice is published as part of the National Park Service's administrative responsibilities under NAGPRA. The determinations in this notice are the sole responsibility of the Bruce Museum, and additional information on the determinations in this notice, including the results of consultation, can be found in its inventory or related records. The National Park Service is not responsible for the determinations in this notice.

Abstract of Information Available

Human remains representing, at least, one individual have been identified. The two associated funerary objects are two sea mammal bones, possibly manatee phalanges. All were recovered from a sand mound burial in 1894 or 1895 on the east shore of Terra Ceia Bay, in Manatee County, Florida. Age and sex unknown. Donated to the Bruce in 1938 by Wilbur Smith. Related to and recovered from the same burial mound as the Ancestor repatriated to the Seminole in 2021. These three objects were not located in 2021 and were identified during a later collection move/rehousing project. The known historical presence of the Seminole Tribe of Florida in the area now known as the State of Florida, combined with the established legal and archaeological information, provides a reasonable basis upon which the Bruce Museum has made the determination that the Seminole Tribe of Florida has established, with acceptable evidence, cultural affiliation with a minimum of one individual and two AFOs having been removed from the undocumented Terra Ceia Bay Shore site located in Seminole County, Florida. No treatment with hazardous material has been performed.

Cultural Affiliation

Based on the information available and the results of consultation, cultural affiliation is reasonably identified by the geographical location or acquisition history of the human remains and associated funerary objects described in this notice.

Determinations

The Bruce Museum has determined that:

• The human remains described in this notice represent the physical remains of one individual of Native American ancestry.

• The two objects described in this notice are reasonably believed to have been placed intentionally with or near individual human remains at the time of death or later as part of the death rite or ceremony.

• There is a connection between the human remains and associated funerary objects described in this notice and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after May 30, 2025. If competing requests for repatriation are received, the Bruce Museum must determine the most appropriate requestor prior to repatriation. Requests for joint repatriation of the human remains and associated funerary objects are considered a single request and not competing requests. The Bruce Museum is responsible for sending a copy of this notice to the Indian Tribes and Native Hawaiian organizations identified in this notice.

Authority: Native American Graves Protection and Repatriation Act, 25 U.S.C. 3003, and the implementing regulations, 43 CFR 10.10.

Dated: April 15, 2025.
Melanie O'Brien,
Manager, National NAGPRA Program.

[FR Doc. 2025-07423 Filed 4-29-25; 8:45 am]

BILLING CODE 4312-52-P